COMMISSION ON CIVIL RIGHTS

Agenda and Notice of Public Meeting of the New Hampshire Advisory Committee

Notice is hereby given, pursuant to the provisions of the rules and regulations of the U.S. Commission on Civil Rights, that a meeting of the New Hampshire Advisory Committee to the Commission will convene at 1 p.m. and adjourn at 5 p.m. on Monday, March 17, 2003, at the Southern New Hampshire University, 2500 North River Road, Manchester, New Hampshire 03106. The purpose of the meeting is to hold new member orientation, be briefed by invited guests on civil rights issues in New Hampshire, and plan future activities.

Persons desiring additional information, or planning a presentation to the Committee, should contact Aonghas St. Hilaire of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, March 4, 2003.
Ivy L. Davis,
Chief, Regional Programs Coordination Unit.

[FR Doc. 03-5589 Filed 3-7-03; 8:45 am]

BILLING CODE 6335-01-P